DEPARTMENT OF COMMERCE

National Oceanic and Atmospheric Administration

50 CFR Part 660

[Docket No. 180625576-8999-02]

RIN 0648-BJ43

Magnuson-Stevens Act Provisions; Fisheries Off West Coast States; Pacific Coast Groundfish Fishery; 2019-2020 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces routine inseason adjustments to management measures in commercial groundfish fisheries. This action is intended to allow commercial fishing vessels to access more abundant groundfish stocks while protecting overfished and depleted stocks.

DATES: This final rule is effective January 2, 2020.

FOR FURTHER INFORMATION CONTACT: Karen Palmigiano, phone: 206-526-4491 or email: karen.palmigiano@noaa.gov.

Electronic Access

This rule is accessible via the internet at the Office of the Federal Register website at https://www.federalregister.gov. Background information and documents are available at the Pacific Fishery Management Council's website at http://www.pcouncil.org/.

SUPPLEMENTARY INFORMATION:

Background

The Pacific Coast Groundfish Fishery Management Plan (PCGFMP) and its implementing regulations at 50 CFR part 660, subparts C through G, regulate fishing for over 90 species of groundfish off the coasts of Washington, Oregon, and California. The Pacific Fishery Management Council (Council) develops groundfish harvest specifications and management measures for two-year periods (i.e., a biennium). NMFS published the final rule to implement harvest specifications and management measures for the 2019-2020 biennium for most species managed under the PCGFMP on December 12, 2018 (83 FR 63970). In general, the management measures set at the start of the biennial harvest specifications cycle help the various sectors of the fishery attain, but not exceed, the catch limits for each stock. The Council, in coordination with Pacific Coast Treaty Indian Tribes and the States of Washington, Oregon, and California, recommends adjustments to the management measures during the fishing year to achieve this goal.

Pacific Coast groundfish fisheries are managed using harvest specifications or limits (e.g., overfishing limits [OFL], acceptable biological catch [ABC], annual catch limits [ACL] and harvest guidelines [HG]) which are recommended biennially by the Council and based on the best scientific information available at that time (50 CFR 660.60(b)). During development of the harvest specifications, the Council also recommends management measures (e.g., trip limits, area closures, and bag limits) that are meant to mitigate catch so as not to exceed the harvest specifications. The harvest specifications and mitigation measures developed for the 2019-2020 biennium used data through the 2017 fishing year.

Throughout the 2019 fishing year, the Council's Groundfish Management Team (GMT) monitored inseason catch and updated catch projections based on new information as it became available. Based on those updated projections, and requests from Council and industry members to investigate potential for inseason trip limit adjustments, the Council recommended adjustments to management measures at its March, April, June, and September meetings. NMFS subsequently implemented each of the Council's recommendations through final rule and made a total of 13 adjustments during the 2019 fishing year (84 FR 25708, June 4, 2019; 84 FR 37780, August 2, 2019; 84 FR 56142, October 21, 2019). Each of the adjustments to management measures were based on updated fisheries information that was unavailable when the analysis for the current harvest specifications was completed.

At its November 14-20, 2019 meeting, the Council recommended adjustments to the trip limits for vessels in the limited entry fixed gear (LEFG) and open access (OA) fisheries that are targeting sablefish, lingcod, the Minor Slope rockfish complex and darkblotched rockfish, the Minor Nearshore Rockfish complex, deeper nearshore rockfish complex, and bocaccio for 2020. The Council also recommended adjustments to the Shorebased Individual Fishing Quota (IFQ) Program fishery trip limits for big skate for 2020.

The following adjustments rely on analysis of commercial fisheries data through mid-November 2019 to inform catch projections for 2020 under the current trip limits. As new fisheries data becomes available, adjustments to management measures are implemented so as to help harvesters achieve but not exceed the harvest limits.

Sablefish Trip Limits

Sablefish is an important commercial species on the West Coast with vessels targeting sablefish with both trawl and fixed gear (longlines and pots/traps). Sablefish is managed with area specific ACLs that are apportioned north and south of 36° N lat. with 73.8 percent going to the north and 26.2 percent going to the south.

Sablefish North

In 2019, the ACL for sablefish north of 36° N lat. is 5,606 mt with a fishery harvest guideline of 5,007 mt. For 2020, the ACL for sablefish north is 5,723 mt, with a fishery harvest guideline of 5,113 mt. The fishery harvest guideline for the area north of 36 N lat. is further divided between the LEFG and OA sectors with 90.6 percent going to the LEFG sector and 9.4 percent going to the OA sector.

In 2019, the Council recommended, and NMFS implemented, two inseason adjustments to increase trip limits for LEFG and OA vessels targeting sablefish north and south of 36° N lat. (84 FR 37780, August 2, 2019; 84 FR 56142, October 21, 2019). These trip limit increases were possible because of unanticipated low sablefish prices that contributed to less than projected fishery participation throughout 2019. This low participation resulted in total attainment, as of November 2019, of around 50 percent of the LEFG and OA portion of the fishery harvest guideline for the area north of 36° N lat. and total attainment around 10 percent of fixed gear portion of the fishery harvest guideline south of 36° N lat.

At the November 2019 Council meeting, the Council's GMT made model-based landings projections under current trip limits for 2020 based on the most recent catch information available through mid-November 2019. According to the projections, under the current trip limits, the LEFG and OA sectors targeting sablefish north of 36° N lat. would likely exceed their portion of the fishery harvest guidelines in 2020 by 10 percent and 25 percent, respectively. Therefore, the GMT recommended the Council consider starting the 2020 fishing year with a more conservative trip limit, specifically the pre-season 2019 trip limit for LEFG and OA north of 36° N lat. (Table 1). Based on the GMT's projections, under these more conservative trip limit options, attainment for the LEFG fishery would likely be around 84.1-91.2 percent and 67.7-93.1 percent for the OA fishery.

Table 1—Current Sablefish North Trip Limits in Regulation at the End of 2019 and Those Recommended by the Council for the Start of the 2020 Fishing Year
Fishery | Trip Limits: Jan-Feb | Trip Limits: March-April | Trip Limits: May-June | Trip Limits: July-Aug | Trip Limits: Sept-Oct | Trip Limits: Nov-Dec
LEFG North of 36° N lat | Current: 1,300 lb (560 kg)/week, not to exceed 3,900 lb (1,769 kg)/two months. |  |  |  | Current: 1,700 lb (771 kg)/week, not to exceed 5,100 lb (2,313 kg)/two months.
| Recommended: 1,300 lb (560 kg)/week, not to exceed 3,900 lb (1,769 kg)/two months.
OA North of 36° N lat | Current: 300 lb (136 kg)/day; or one landing per week up to 1,200 lb (544 kg), not to exceed 2,400 lb (1089 kg)/two months. |  |  | Current: 300 lb (136 kg) day; or one landing per week up to 1,400 lb (635 kg), not to exceed 2,800 lb (1,270 kg)/two months | Current: 300 lb day (136 kg); or one landing per week up to 1,500 lb (680 kg), not to exceed 3,000 lb (1,361)/two months.
| Recommended: 300 lb (136 kg)/day; or one landing per week up to 1,200 lb (544 kg), not to exceed 2,400 lb (1089 kg)/two months.

Sablefish South

The 2019 portion of the ACL for sablefish south of 36° N lat. is 1,990 mt with a fishery harvest guideline of 1,986 mt. For 2020, the ACL is slightly higher at 2,032 mt, with a harvest guideline of 2,028 mt. South of 36° N lat., the fishery harvest guideline is further divided between the trawl (limited entry) and non-trawl (LEFG and OA) sectors with 42 percent going to the trawl sector, and the remaining 58 percent going to the fixed gear sector.

In August 2019, NMFS implemented, based on the Council's June 2019 recommendation, an adjustment to the trip limits for OA fishery which increased the bimonthly limit from 3,200 lbs (1,452 kg) to 4,800 lbs (2,177 kg) to provide additional opportunities for individuals in what is a very low attainment fishery (Table 2) (84 FR 37780, August 2, 2019). At the November 2019 meeting, the GMT made model-based projections for attainment in 2020 for the OA fishery targeting sablefish south of 36° N lat. using the trip limits currently in regulation. The projections showed that even with the higher bimonthly limit (4,800 lbs [2,177 kg] per two months) for the entire 2020 fishing year, instead of just the latter half of the year as was done in 2019, total attainment would likely only be around 7-10 percent of the fixed gear harvest guideline (1,176.1 mt). However, the GMT recommended maintaining the higher bimonthly limit as it is expected to benefit individuals who target sablefish south of 36° N lat.

Table 2—Current Sablefish South Trip Limits in Regulation at the End of 2019 and Those Recommended by the Council for the Start of the 2020 Fishing Year
Fishery | Trip Limits: Jan-Feb | Trip Limits: March-April | Trip Limits: May-June | Trip Limits: July-Aug | Trip Limits: Sept-Oct | Trip Limits: Nov-Dec
OA South of 36° N lat | Current: 300 lb (136 kg)/day; or one landing per week up to 1,600 lb (726 kg), not to exceed 3,200 lb (1,452 kg)/two months. |  |  | Current: 300 lb (136 kg)/day; or one landing per week up to 1,600 lb (726 kg), not to exceed 4,800 lb (2,177 kg)/two months.
| Recommended: 300 lb (136 kg)/day; or one landing per week up to 1,600 lb (726 kg), not to exceed 4,800 lb (2,177 kg)/two months.

The proposed 2020 trip limits for LEFG and OA both north and south of 36° N lat. do not change projected impacts to co-occurring overfished species compared to the impacts anticipated in the 2019-20 harvest specifications because the anticipated impacts to those species assume that the entire sablefish ACL is harvested. The Council recommended and NMFS is implementing, by modifying Tables 2 North and South to 50 CFR part 660, subpart E, the following trip limit for the LEFG fishery north of 36° N lat., “1,300 lb (560 kg) per week, not to exceed 3,900 lb (1,769 kg) per two months” beginning in period one (January and February) through the end of the year. NMFS is also implementing, by modifying Table 3 North to 50 CFR part 660, subpart F, the following trip limits for the OA sablefish fishery north of 36° N lat., “300 lb (136 kg) per day, or one landing per week up to 1,200 lb (544 kg), not to exceed 2,400 lb (1,089 kg)/two months” beginning in period one (January and February) through the end of the year. NMFS is also implementing, by modifying Table 3 South to 50 CFR part 660, subpart F, the following trip limits for the OA sablefish fishery south of 36° N lat., “300 lb (136 kg) per day, or one landing per week up to 1,600 lb (726 kg), not to exceed 4,800 lb (2,177 kg)/two months” beginning in period one (January and February) through the end of the year.

Lingcod Trip Limits

During development of the 2019-2020 harvest specifications, the Council recommended deviating from the default harvest control rules for lingcod north and south of 40°10′ N lat., reflecting greater confidence in the current stock assessment. The 2019 ACL for the northern stock is 4,871 mt with a fishery harvest guideline of 4,593 mt. For 2020, the ACL is 4,541 mt with a fishery harvest guideline of 4,263 mt. The 2019 ACL for the southern stock is 1,039 mt with a fishery harvest guideline of 1,028 mt. For 2020, the ACL is 869 mt with a fishery harvest guideline of 858 mt. The fishery harvest guideline in each area is then split between the trawl (45 percent) and non-trawl (55 percent) sectors according to the Amendment 21 allocations as specified at § 660.55(c) and Chapter 6 of the PCGFMP. The non-trawl percentage is shared between the LEFG, OA, and recreational fisheries.

Lingcod is a low attainment stock for both management areas north and south of 40°10′ N lat. Attainment, as of mid-November, in the north is just 19 percent of the ACL and in the south is 29 percent of the ACL. At the Council's November meeting, the GMT received requests from industry members to increase the OA lingcod trip limits north of 42° N lat., but did not receive a request to change the trip limits for the area between 42° N lat. and 40°10′ N lat. Because the stock is managed with a split at the 40°10′ N lat. management line, the Council uses more conservative LEFG and OA trip limits from 40°10′ to 42° N lat. than north of 42 ° N lat. to reflect the differences in the stock assessments which models the stocks north and south of 42° N lat. The GMT made model-based catch projections for lingcod north of 40°10′ N lat. under the current trip limits and potential increased trip limits for the 2020 fishing year. Under the current trip limits, the total non-trawl mortality in 2020 north of 40°10′ N lat. is projected to be 537.8 mt, or 23 percent, of the total 2020 non-trawl share of the fishery harvest guideline (2,345 mt). Under the proposed trip limits for north of 42° N lat, which would increase the LEFG bimonthly limit from “2,000 lbs (907 kg) per two months” to “2,600 lbs (1,179 kg) per two months” and the OA trip limits from “900 lb (408 kg) per two months” to “1,200 lb (544 kg) per two months,” the total non-trawl mortality in 2020 is estimated to be 547.1 mt, or 23.3 percent, of the 2,345 mt non-trawl share of the fishery harvest guideline (4,263 mt) and just 12 percent of the ACL (4,541 mt) for north of 40°10′ N lat.

Therefore, the Council recommended and NMFS is implementing, by modifying Table 2 North to 50 CFR part 660 subpart E and Table 3 North to part 660 subpart F, increases to commercial trip limits for LEFG and OA vessels north of 42° N lat. beginning with period one (January and February) in 2020. LEFG trip limits will increase from “2,000 lb (907 kg) per two months” to “2,600 lb (1,179 kg) per two months” for all periods in 2020. OA fishery trip limits will increase from “900 lb (408 kg) per month” to “1,200 lb (544 kg) per month” for all periods in 2020. The trip limits for LEFG and OA vessels targeting lingcod between 40°10′ N lat. and 42° N lat. will not change and will remain at their current limits in regulation.

During the 2019 fishing year, the Council recommended, and NMFS implemented midway through period three (May through June, 84 FR 25708, June 4, 2019), adjustments to LEFG and OA trip limits, as well as recreational bag limits, for lingcod south of 40°10′ N lat., using updated fisheries information through 2018, in an effort to increase attainment. Based on the GMT's analysis at that time, increasing the trip limits for LEFG and OA, as well as the recreational bag limit, for vessels targeting lingcod south of 40°10′ N lat. beginning in early June was projected to increase total attainment from 264 mt to 456 mt or from 47 percent of the non-trawl harvest guideline (565.2 mt) to 81 percent.

Reverting to the reduced trip limits for the LEFG and OA vessels targeting lingcod south of 40°10′ N lat. beginning in January 2020 (period one) would be a steep decrease from the period six (November through December) limits and could result in disruptions in the markets and potential confusion with fishers. Therefore, at the Council's November meeting, the GMT recommended the Council adopt higher trip limits for both LEFG and OA vessels targeting lingcod south of 40°10′ N lat. Under status quo trip limits, the total non-trawl impacts are projected to be 461.2 mt, or 98 percent, of the non-trawl share of the harvest guideline (471.7 mt). The recommended increased trip limits are projected to increase attainment by 8.6 mt resulting in total non-trawl impacts projected to be 469.8, or 100 percent of the non-trawl share of the harvest guideline.

Therefore, the Council recommended, and NMFS is implementing, by modifying Table 2 South to 50 CFR part 660 subpart E and Table 3 South to part 660 subpart F, increases to commercial trip limits for LEFG and OA vessels south of 40°10′ N lat. beginning with Period one (January and February) in 2020. LEFG trip limits will increase from “200 lb (90 kg) per two months” to “1,200 (544 kg) lbs per two months.” OA trip limits will increase from “300 lb (136 kg) per month” to “500 lb (227 kg) per month.” Period two (March through April) will remain closed for both LEFG and OA vessels targeting lingcod south of 40°10′ N lat.

Minor Slope Rockfish and Darkblotched Rockfish Trip Limits

The Minor Slope Rockfish Complex north of 40°10′ N lat. is comprised of aurora rockfish, bank rockfish, blackgill rockfish, blackspotted rockfish, redbanded rockfish, rougheye rockfish, sharpchin rockfish, shortraker rockfish, splitnose rockfish, and yellowmouth rockfish. Although darkblotched rockfish is not included in the Slope Rockfish complex and has its own coastwide harvest specifications, it is managed with the same collective trip limit.

The 2019 darkblotched rockfish ACL is 765 mt with a 731 mt harvest guideline. The 2020 ACL is 815 mt with a fishery harvest guideline of 781 mt. The harvest guideline is further split between the trawl and non-trawl sectors with trawl receiving the majority of the share, 95 percent, and the non-trawl sector receiving five percent. The 2019 ACL for the Minor Slope Rockfish Complex north of 40°10′ N lat. is 1,746 mt with a 1,665 mt fishery harvest guideline. The 2020 ACL for the Minor Slope Rockfish Complex north of 40°10′ N lat. is 1,732 mt with a 1,651 mt fishery harvest guideline. The fishery harvest guideline is split between the trawl sector (81 percent) and the non-trawl sector (19 percent). During development of the 2019-20 harvest specifications, the Council selected a 4,000 lb (1,814 mt) bimonthly trip limit to allow vessels targeting sablefish, mainly in the primary sablefish fishery, to retain some incidental catches of slope rockfish. Total mortality for darkblotched rockfish in 2019 is 378.3 mt, or just under 50 percent, of the ACL. Total mortality in 2019 for minor slope rockfish north of 40°10′ N lat. is 506.1 mt, or 29 percent of the ACL.

At the Council's November meeting, members of the Council's Groundfish Advisory Subpanel (GAP) requested a moderate increase to the trip limits for the Minor Slope Rockfish complex and darkblotched rockfish for 2020 to accommodate a few individuals that have had to discard incidental rockfish because the trip limit is too low. The GMT confirmed that in rare instances vessels have been attaining their full trip limit (4,000 lb [1,814 kg] per two months) while fishing for sablefish and therefore could benefit from a slight increase in the trip limit.

The GMT made catch projections for 2020 based on a moderate 2,000 lb (907 kg) per two month trip limit increase bringing the trip limit for LEFG slope and darkblotched rockfish to “6,000 lb (2,722 kg) per two months” starting in period one (January through February) and going through the end of the year. Because there are only a few instances of boats catching the current limit, the GMT projected that this increase would likely result in additional landings of around 1.8 mt. Like with all trip limit projections, this projection is based on the assumption that the same number of boats will participate, and that only those vessels that have been catching the lower trip limit will catch the proposed increased trip limit. Therefore, total mortality is expected to remain the same since fishermen would be allowed to land more fish instead of having to discard them and count them as dead. The total impacts projected for 2020 for non-trawl sectors are expected to be low for both darkblotched (6.6 mt of a 39.1 mt share) and the Minor Slope Rockfish complex north of 40°10′ N lat. (81.5 mt of a 313.67 mt share.)

Therefore, based on the information provided, the Council recommended and NMFS is implementing, by modifying Table 2 North to 50 CFR part 660 subpart D, an increase to the Minor Slope Rockfish Complex and darkblotched rockfish north of 40°10′ N lat. trips limits for LEFG vessels from “4,000 lb (1,814 kg) per two months” for all periods to “6,000 lb (2,722 kg) per two months” for all periods beginning with period one (January through February).

Minor Nearshore Rockfish Complex North of 40°10′ N Lat.

The Minor Nearshore Rockfish complex north of 40°10′ N lat. includes 13 species of rockfish: Black and yellow rockfish, blue rockfish, brown rockfish, calico rockfish, China rockfish, copper rockfish, deacon rockfish, gopher rockfish, grass rockfish, kelp rockfish, olive rockfish, quillback rockfish, and treefish. The ACLs for the Minor Nearshore Rockfish complex north of 40°10′ N lat. are 81 mt in 2019 and 82 mt in 2020 with a 79 mt fishery harvest guideline in both years. Unlike other species or species complexes, the coastwide harvest guideline for the Minor Nearshore Rockfish complex north of 40°10′ N lat. is not allocated between trawl and non-trawl sectors because the trawl impacts are so minor. Instead, Washington, Oregon, and California have a sharing agreement and divide the federal harvest guideline for each of the species in the complex into state landing targets. The States then divide their shares between their commercial fixed gear and recreational sectors. Using the harvest guidelines along with catch information, the Council designates management measures to maximize catch within these state target limits while also limiting impacts to co-occurring rebuilding species such as yelloweye rockfish.

Most vessels fishing in California's nearshore fishery do not hold a Federal limited entry permit and are considered federal OA fixed gear vessels. California restricts participation in the nearshore fishery by requiring a state limited entry permit to harvest nearshore groundfish species. Trip limits for these fisheries are designed to keep catch within nearshore species state and Federal limits while providing a year-round fishing opportunity, if possible. The total California share of the coastwide harvest guideline the Minor Nearshore Rockfish complex is 36.6 mt for 2019 and 37.9 mt for 2020.

When the Council developed the 2019 and 2020 management measures for California's share of the harvest guideline for the Minor Nearshore Rockfish complex in 2018, commercial catch data was only available through the end of the 2016 fishing year. State landing targets were based on the projected mortality from 2017 trip limits rather than average landings to account for potential additional effort within the fishery due to newly adopted state permit transfer provisions. LEFG and OA fixed gear trip limits for the Minor Nearshore Rockfish complex were set for 2019 at the same levels used in the 2017-2018 harvest specifications in order to remain precautionary due to uncertainty about potential increasing effort.

At the Council meeting in March 2019, the GMT updated projections for the Minor Nearshore Rockfish complex with catch information through the end of 2018. Based on this updated information the Council recommended adjusting the commercial sector trip limits for period two through period six from “7,000 lb (3,175 kg) per two months, no more than 1,200 lb (544 kg) of which may be species other than black rockfish” to “7,000 lb (3,175 kg) per two months, no more than 1,500 lb (680 kg) of which may be species other than black rockfish.” No change was requested for the black rockfish trip limit. NMFS implemented this change beginning with period three (May through June) through the end of the 2019 fishing year (84 FR 25708, June 4, 2019).

Under the current regulations, the Minor Nearshore Rockfish complex trip limits would revert back to “1,200 lb (544 kg) per two months for all other species besides black rockfish” in periods one (January through February) and two (March through April) from the 1,500 lb (680 kg) per two months limit implemented by NMFS in June 2019. The trip limit for periods three (May through June) through six (November through December) will remain unchanged from what is currently in regulations. At the November 2019 meeting, members of the GAP requested an increase to the Minor Nearshore Rockfish complex trip limits for all species except black rockfish, for periods one and two in 2020 to be consistent with periods three (March through April) through six (November through December). The GMT made catch projections under the current regulations and under the GAP's requested increased trip limit for the 2020 fishing year. Under the current regulations, total landings for minor nearshore rockfish between 42° N lat. and 40°10′ N lat. are projected to be 30.7 mt, or 84 percent of the 2020 California fishery landing target (36.6 mt). Under the increased trip limit, total landings of minor nearshore rockfish between 42° N lat. and 40°10′ N lat. are expected to increase by 0.3 mt to 31 mt, or 82 percent of the 2020 California fishery landing target (37.9 mt). This change will help provide consistency and stability in the trip limits.

Therefore, the Council recommended, and NMFS is implementing, by modifying Table 2 North to 50 CFR part 660 subpart E and Table 3 North to part 660 subpart F, an increase to the Minor Nearshore rockfish complex trip limits for LEFG and OA fisheries between 42° N lat. and 40°10′ N lat. for period one and two from “8,500 lb per two months, no more than 1,200 lb of which may be species other than black rockfish” to “8,500 lb per two months, no more than 1,500 lb of which may be species other than black rockfish.” The trip limit for periods three (May through June) through six (November through December) will remain unchanged from what is currently in regulations.

Deeper Nearshore Rockfish South of 40°10′ N Lat.

The Minor Nearshore Rockfish complex south of 40°10′ N lat. is subdivided into two management categories: (1) Shallow nearshore rockfish (black-and-yellow rockfish, China rockfish, gopher rockfish, grass rockfish, and kelp rockfish), and (2) deeper nearshore rockfish (brown rockfish, calico rockfish, copper rockfish, olive rockfish, quillback rockfish, and treefish). California restricts participation in the nearshore fishery by requiring vessels have a shallow or a deeper nearshore permit. The ACL for the Minor Nearshore Rockfish complex south of 40°10′ N lat. is 1,142 mt in 2019 with a 1,138 mt harvest guideline and 1,163 mt for 2020 with a 1,159 mt harvest guideline. The harvest guideline is shared between vessels targeting shallow and deeper nearshore rockfish.

When the Council developed the 2019-2020 management measures for California's deeper nearshore rockfish in 2018, commercial catch data through the end of the 2017 fishing year was not available. Instead, the analysis used data from previous fishing years and assumptions were made about fishing effort in the 2017 fishing year based on this data to project impacts through the remainder of 2017. Based on this information, trip limits for deeper nearshore rockfish for LEFG and OA were set in 2019 at the same levels used in the 2017-2018 harvest specifications.

In March 2019, the GMT updated the catch projections for the Minor Nearshore Rockfish complex south of 40°10′ N lat. with commercial fishing data through the end of 2018. Based on those updated projections, the Council recommended and NMFS implemented an increase to the LEFG and OA trip limits for deeper nearshore rockfish south of 40°10′ N lat. for periods three (May through June) through six (November through December) (84 FR 25708, June 4, 2019). Period two remained closed.

At the November 2019 meeting, the GAP requested the Council consider increasing the LEFG and OA 2020 trip limits for vessels targeting species within the deeper nearshore rockfish complex. The increase would only be for period one of 2020 (January through February) and would maintain the current trip limit for period six in 2019 of “1,200 lb (544 kg) per two months.” Without this trip limit increase for period one, the trip limits for LEFG and OA vessels targeting deeper nearshore rockfish would decrease to “1,000 lb (454 kg) per two months” for period one. Period two would remain closed and in period three (May through June) the limits, under current regulations, would once again return to “1,200 lbs (544 kg) per two months” until the end of the year.

Under the current regulations, LEFG and OA vessels targeting minor nearshore rockfish are projected to catch 110 mt (55 mt for the deeper nearshore vessels and 55 mt for the shallow nearshore vessels) in 2020. Increasing the trip limit for the deeper nearshore vessels would have a limited impact on these projected catches. Deeper nearshore projected attainment would likely increase by about 0.7 mt, bringing the total commercial nearshore impacts to 111.2 mt. With the recreational fishery projected to take around 611.6 mt under the current bag limits, total catch projections for the non-trawl sector is 721.6 mt, or 62.3 percent of the non-trawl share. With the increased impacts from the increased trip limit, total catch projections for the non-trawl share are expected to increase to 722.8 mt or 62.4 percent of the non-trawl share.

Therefore, based on the GMT's analysis, the Council recommended and NMFS is implementing, by modifying Tables 2 South to 50 CFR part 660 subpart E and Table 3 Sorth to part 660 subpart F, an increase to the period one (January through February) trip limits for deeper nearshore rockfish south of 40°10′ N lat. from “1,000 (454 kg) per two months” to “1,200 lb (544 kg) per two months.” Period two will remain closed and no changes were requested for periods three (May through June) through 6 (November through December).

LEFG Trip Limits for Bocaccio Between 40°10′ N Lat. and 34 °27′ N Lat.

Bocaccio is managed with stock-specific harvest specifications south of 40°10′ N lat. and within the Minor Shelf Rockfish complex north of 40°10′ N lat. NMFS declared bocaccio overfished in 1999, and implemented a rebuilding plan for the stock in 2000. NMFS declared bocaccio officially rebuilt in 2017. New, higher catch limits resulting from their rebuilt status were implemented for bocaccio for the first time in 2019. For example, the non-trawl allocation of bocaccio increased from 442.3 mt in 2018 to 1,250 mt in 2019.

For 2019, the bocaccio ACL south of 40°10′ N lat. is 2,097 mt with a fishery harvest guideline of 2,051 mt. The non-trawl share of the fishery harvest guideline is 1,250.2 mt, or 61 percent of the fishery harvest guideline. In 2020, the bocaccio ACL south of 40°10′ N lat. is 2,011 mt with a fishery harvest guideline of 1,965 mt. The non-trawl share of the fishery harvest guideline is 1,197.8 mt or 61 percent of the fishery harvest guideline. The supporting analysis for the 2019-2020 harvest specifications used landings data through the 2017 fishing year to determine appropriate mitigation measures (e.g., commercial trip limits and recreational bag limits) to ensure catch reaches but does not exceed the bocaccio ACL for south of 40°10′ N lat.

Based on updated fisheries information presented at the June 2019 Council meeting, the Council recommended and NMFS implemented an increase to the bocaccio trip limits for the LEFG fishery between 40°10′ N lat. and 34°27′ N lat. beginning in period four (July-August) through the end of the year (84 FR 37780, August 2, 2019). This helped align the trip limits for this area with the bocaccio trip limits for vessels fishing south of 34°27′ N lat. At the time, the GMT projected that total mortality would increase by less than 0.1 mt from the status quo trip limits which were 134.6 mt, or 11 percent of the non-trawl harvest guideline and six percent of the 2019 bocaccio ACL for south of 40°10′ N lat.

At the November 2019 Council meeting, the GMT provided updated catch projections for bocaccio south of 40°10′ N lat. through the end of the year. Landings of bocaccio for the LEFG vessels in 2019 are now projected to be about 18 mt, or 6.8 mt higher than previously projected by the GMT at the June 2019 Council meeting. However, total mortality is still only 150.8 mt, or 12.6 percent, of the non-trawl harvest guideline and 29 percent of the ACL for bocaccio south of 40°10′ N lat. These higher than projected catches are likely due to more than twice as many LEFG vessels participating in this area during periods four (July through August) and period five (September through October) than had fished during those periods in the previous year.

Due to the positive increase in landings, the GAP requested the GMT investigate the possibility of increasing the 2020 fishing year trip limits for bocaccio for period one (January through February) through period three (May through June) in the area between 40°10′ N lat. and 34°27′ N lat. Without further action by the Council, the trip limits for bocaccio in this area would decrease from “1,500 lb (680 kg) per two months” in period six to “1,000 (454 kg) per two months” for periods one through three. Increasing the bocaccio trip limits for periods one through three beginning in 2020 would provide consistency for the fishermen and could help spur more growth for the LEFG fishery off central California where participation has been low in recent years. Under the increased trip limits in periods one through three, projected attainment of the non-trawl share (1,197.8 mt) is expected to increase from 150.8 mt to 153 mt, an increase of 2.2 mt or 0.2 percent.

The primary objective of nearshore fisheries north and south of 40°10′ N lat. has been to maximize opportunity for target stocks while staying within the overfishing/rebuilding species limits, in particular yelloweye rockfish. Therefore, any time the Council considers an increase to trip limits for vessels targeting nearshore rockfish (minor, shallow, or deeper), lingcod south of 40°10′ N lat., or bocaccio south of 40°10′ N lat. impacts to yelloweye rockfish must also be projected using a model-based approach.

The 2020 yellow rockfish ACL is 49 mt and the harvest guideline is 43 mt. The nearshore harvest guideline is 6.2 mt with a nearshore annual catch target of 4.9 mt. Taking into account the proposed changes to the trip limits for nearshore rockfish, lingcod south of 40°10′ N lat., or bocaccio south of 40°10′ N lat., the projected impacts to yelloweye rockfish in 2020 are 0.6 mt. These impacts are 1.0 mt less than California's share of the yelloweye rockfish harvest guideline for nearshore fisheries (1.6 mt).

Therefore, based on the above information, the Council recommended and NMFS is implementing, by modifying Table 2 South to 50 CFR part 600 subpart E, an increase to the bocaccio limit for period one (January through February) through period three (May through June) only in the area between 40°10′ N lat. and 34°27′ N lat. The trip limit will increase from “1,000 lb (454 kg) per two months” to “1,500 lb (680 kg) per two months”. This change will create one consistent trip limit throughout all periods in 2020.

Shorebased IFQ Program Fishery Trip Limits for Big Skate

Previously managed as an ecosystem component species, big skate was moved “into the fishery” through the 2017-2018 harvest specifications because large landings off Oregon suggested vessels in the Pacific Coast groundfish fishery are targeting big skate. Big skate is the only non-IFQ species managed coast-wide with bimonthly trip limits in the IFQ fishery. For 2019 and 2020, the ACL for big skate is 494 mt with a fishery harvest guideline of 452 mt. The trawl allocation is 95 percent or 429.5 mt. An additional 41 mt was deducted from the trawl allocation to account for bycatch in the at-sea sector and shorebased IFQ discard mortality resulting in a landing target of 388.5 mt for the trawl sector. Current trip limits for big skate for vessels in the IFQ fishery can be found in Table 3.

Table 3—Big Skate Trip Limits for the 2019 Fishing Year
Jan-Feb | Mar-Apr | May-Jun | Jul-Aug | Sep-Oct | Nov-Dec
5,000 lb (2,258 kg)/2 months | 25,000 lb (11,340 kg)/2 months | 30,000 lb (13,608 kg)/2 months | 70,000 lb (31,751 kg)/2 months | 20,000 lb (9,072 kg)/2 months | 20,000 lb (9,072 kg)/2 months.

At the June 2019 Council meeting, the GAP requested the Council consider increasing the big skate trip limits due to lower than projected catch in 2019, which industry suggested is likely due to several fishermen who targeted big skate retiring in recent years. Therefore, the Council recommended and NMFS implemented increases to the big skate trip limits for shorebased IFQ fishery beginning in period four (July-August) through the end of the year (84 FR 37780, August 2, 2019). During development of the 2019-2020 harvest specifications, the GMT analysis used relatively high 2016-2017 landings and projected that attainment would be around 98 percent of the landings targets in 2019. However, landings decreased dramatically in 2018 (218 mt out of 494 mt ACL with the shorebased IFQ sector harvesting 128 mt) and the same trend has continued throughout 2019. Under the current trip limits (Table 3), projected landings through the end of 2019 are expected to be 132 mt, or 34 percent, of the landing target (388.5 mt), which is about 28.4 mt less than was projected to be caught when the GMT ran the projections in June 2019. This would likely continue to be the result in 2020 without further trip limit increases.

Therefore, the GMT analyzed increased trip limits for big skate for 2020 that would result in a constant trip limit of “70,000 lb (31,751 kg) per two months” for all periods beginning in period one (January through February) through the end of the 2020 fishing year. This trip limit increase is expected to increase landings of big skate in the IFQ fishery by 31.3 mt over the current trip limits to 163.3 mt, or 42 percent of the landings target (388.5 mt).

Therefore, in order to maximize opportunities for the few vessels targeting big skate in the shorebased IFQ fishery in 2020, the Council recommended, and NMFS is implementing, by modifying Tables 1 (North and South) to 50 CFR part 660, subpart D, a trip limit of “70,000 lb (31,751 kg) per two months” beginning in period one (January through February) through the end of the year.

Classification

This final rule makes routine inseason adjustments to groundfish fishery management measures, based on the best scientific information available, consistent with the PCGFMP and its implementing regulations.

This action is taken under the authority of 50 CFR 660.60(c) and is exempt from review under Executive Order 12866.

The aggregate data upon which these actions are based are available for public inspection by contacting Karen Palmigiano in NMFS West Coast Region (see FOR FURTHER INFORMATION CONTACT, above), or view at the NMFS West Coast Groundfish website: http://www.westcoast.fisheries.noaa.gov/fisheries/groundfish/index.html.

Pursuant to 5 U.S.C. 553(b), NMFS finds good cause to waive prior public notice and an opportunity for public comment on this action, as notice and comment would be impracticable and contrary to the public interest. The adjustments to management measures in this document ease restrictive trip limits for fisheries in Washington, Oregon, and California. These limits were originally implemented at the beginning of the 2019-2020 biennium and were based on information through 2017. Since then, the GMT has conducted inseason monitoring which allowed the Council to increase many of these trip limits at some point in 2019. Without implementing the suggested increases now, these trip limits would revert back to numbers that are no longer based on the best available information. No aspect of this action is controversial, and changes of this nature were anticipated in the final rule for the 2019-2020 harvest specifications and management measures which published on December 12, 2018 (83 FR 63970).

At its November 2019 meeting, the Council recommended increases to the commercial trip limits be implemented as soon as possible so that harvesters may be able to take advantage of these higher limits at the start of the 2020 fishing year and not be subject to limits initially implemented January 1, 2019. Each of the trip limit increases in this rule will create more harvest opportunity and allow fishermen to better attain species that are currently under-attained without causing any additional impacts to the fishery. Each of these recommended adjustments also rely on new catch data that were not available and thus not considered during the 2019-2020 biennial harvest specifications process. New catch information through mid-November shows that attainment of lingcod, bocaccio, minor nearshore rockfish, big skate, deeper nearshore rockfish, minor slope rockfish, and darkblotched rockfish has been below their respective management points management points (i.e., harvest guideline, ACL, and non-trawl allocation) in 2019 and would likely remain below catch targets under status quo limits in 2020.

These trip limit adjustments could provide up to an additional $250,000 in ex-vessel revenue to harvesters, as well as $489,000 in income and jobs when including benefits to communities and associated businesses. Delaying implementation to allow for public comment would likely reduce the economic benefits to the commercial fishing industry and the businesses that rely on that industry because it is unlikely the new regulations would publish and could be implemented for the start of the fishing year. Therefore, providing a comment period for this action could significantly limit the economic benefits to the fishery, and would hamper the achievement of optimum yield from the affected fisheries.

Therefore, the NMFS finds reason to waive the 30-day delay in effectiveness pursuant to 5 U.S.C. 553(d)(1) so that this final rule may become effective on January 2, 2020. The adjustments to management measures in this document affect commercial fisheries by increasing opportunity and relieving participants of the more restrictive trip limits. These adjustments were requested by the Council's advisory bodies, as well as members of industry during the Council's November 2019 meeting, and recommended unanimously by the Council. No aspect of this action is controversial, and changes of this nature were anticipated in the biennial harvest specifications and management measures established through a notice and comment rulemaking for 2019-2020 (82 FR 63970).

List of Subjects in 50 CFR Part 660

Fisheries, Fishing, and Indian Fisheries.

Dated: December 19, 2019.
Jennifer M. Wallace,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Tables 1 (North) and (South) to part 660, subpart D are revised to read as follows:

BILLING CODE 3510-22-P

3. Tables 2 (North) and (South) to part 660, subpart E are revised to read as follows:

4. Table 3 (North) and Table 3 (South) to part 660, subpart F are revised to read as follows:

[FR Doc. 2019-27982 Filed 1-2-20; 8:45 am]

BILLING CODE 3510-22-C